DEPARTMENT OF LABOR

Employment and Training Administration

[TA-W-64,773]

United States Steel, Great Lakes Works, Ecorse, MI; Notice of Termination of Investigation

Pursuant to Section 221 of the Trade Act of 1974, as amended, an investigation was initiated on December 23, 2008 in response to a worker petition filed on behalf of workers at United States Steel, Great Lakes Works, Ecorse, Michigan. The workers at the subject facility produce flat rolled steel.

The petitioners have requested that the petition be withdrawn. Consequently, the investigation has been terminated.

Signed in Washington, DC, this 15th day of April 2009.
Richard Church,
Certifying Officer, Division of Trade Adjustment Assistance.

[FR Doc. E9-10898 Filed 5-8-09; 8:45 am]

BILLING CODE 4510-FN-P